NUCLEAR REGULATORY COMMISSION

[Docket No. 70-27; NRC-2008-0428]

Notice Issuance of License Amendment To Transfer the Control of Special Nuclear Materials License No. SNM-42

AGENCY: U.S. Nuclear Regulatory Commission.

ACTION: Notice of license transfer and issuance of conforming amendment.

FOR FURTHER INFORMATION CONTACT: Amy M. Snyder, Senior Project Manager, Fuel Manufacturing Branch, Division of Fuel Cycle Safety and Safeguards, Office of Nuclear Material Safety and Safeguards, U.S. Nuclear Regulatory Commission, Mail Stop EBB2C40M, Washington, DC 20555-0001, Telephone: (301) 492-3225; fax number: (301) 492-5539; e-mail: amy.synder@nrc.gov.

Pursuant to Title 10 of the Code of Federal Regulations (10 CFR), Section 2.106, the U.S. Nuclear Regulatory Commission (NRC) is providing notice that Special Nuclear Materials (SNM) License No. SNM-42 has been transferred from BWX Technologies (BWXT) to Babcock & Wilcox Nuclear Operations Group (B&W NOG). The licensed activities will continue to be performed at the B&W NOG facilities in Lynchburg, Virginia. The 2007 request for the then-proposed license transfer was previously noticed in the Federal Register on Friday, August 1, 2008; 73 FR 45089, with a notice of an opportunity to request a hearing. No hearing requests were submitted.

On November 12, 2008, the NRC issued an Order approving the proposed license transfer. This order was accompanied by a Safety Evaluation Report (SER) documenting the basis for the license transfer approval, and a license amendment. This license amendment complies with the standards and requirements of the Atomic Energy Act of 1954, as amended, and NRC's rules and regulations as set forth in 10 CFR Chapter 1. The license was transferred from BWXT to B&W NOG on January 11, 2009.

Further Information

In accordance with 10 CFR 2.390 of NRC's “Rules of Practice,” details with respect to this action, including the SER and accompanying documentation included in the license Amendment package, are available electronically, at NRC's Electronic Reading Room, at http://www.nrc.gov/reading-rm/adams.html. From this site, you can access NRC's Agencywide Documents Access and Management System (ADAMS), which provides text and image files of NRC's public documents. The ADAMS accession numbers for documents related to this action are:

Documents | ADAMS Accession No.
November 14, 2007: Initial Application | ML080920759
December 7, 2007: Request for Additional Information (RAI) Request I | ML073340643
December 10, 2007: RAI Response I | ML073460400
December 17, 2007: Meeting Minutes | ML080090688
January 7, 2008: Application Supplement | ML080160257
January 7, 2008: Application Supplement | ML080160149
January 11, 2008: Application Supplement | ML080230599
February 1, 2008: RAI Request II | ML080280551
February 1, 2008: Proprietary Determination I | ML080150394
February 15, 2008: RAI Response II | ML080920674
February 29, 2008: Response to Proprietary Determination | ML080640268
March 19, 2008: Application Acceptance | ML080710555
March 31, 2008: Proprietary Determination II | ML080790072
April 24, 2008: RAI Request III | ML081050308
June 27, 2008: Response to RAI Request III | ML082810598
October 29, 2008: SER | ML082600362
Application supplements via e-mails | ADAMS Accession No.
December 12, 2007 | ML081190572
December 12, 2007 | ML081190669
December 12, 2007 | ML081190672
December 13, 2007 | ML081190671
December 13, 2007 | ML081190670
January 9, 2008 | ML081190624
January 14, 2008 | ML081190661
March 13, 2008 | ML081190657
August 19, 2008; Response to NRC questions | ML082690414
August 26, 2008: NRC Additional Questions | ML082690283
September 5, 2008: Response to NRC Questions | ML082690224
Miscellaneous | ADAMS Accession No.
July 17, 2008: Federal Register notice | ML073511429
September 23, 2008: Environmental Assessment State Consultation | ML083010195
November 12, 2008: Order approving Transfer with SER | ML082910211
January 9, 2009: Extension of Order | ML083530787

If you do not have access to ADAMS or if there are problems in accessing the documents located in ADAMS, contact the NRC Public Document Room (PDR) Reference staff at 1-800-397-4209, 301-415-4737; or by e-mail, to pdr.resource@nrc.gov.

These documents may also be viewed electronically on the public computers located at NRC's PDR, O 1 F21, One White Flint North, 11555 Rockville Pike, Rockville, MD 20852. The PDR reproduction contractor will copy documents for a fee.

Dated at Rockville, Maryland, this 10th day of February, 2009.
For the U.S. Nuclear Regulatory Commission.
Peter Habighorst,
Branch Chief, Office of Nuclear Material Safety and Safeguards, Division of Fuel Cycle Safety and Safeguards.

[FR Doc. E9-3505 Filed 2-18-09; 8:45 am]

BILLING CODE 7590-01-P